NATIONAL AERONAUTICS AND SPACE ADMINISTRATION

[Notice (14-004)]

Notice of Intent to Grant Partially Exclusive License

AGENCY: National Aeronautics and Space Administration.

ACTION: Notice of Intent to Grant Partially Exclusive License

SUMMARY: This notice is issued in accordance with 35 U.S.C. 209(e) and 37 CFR 404.7(a)(1)(i). NASA hereby gives notice of its intent to grant a partially exclusive, copyright-only license in the United States to practice the inventions described in Scene Analysis Software described in NASA Case Nos. KSC-12975 entitled “A Photogrammetry Tool for Forensic Analysis;” and KSC-12663 entitled “Dual Camera—Single Target, Position Measurement System;” to Rapid Line Industries, Inc., having its principal place of business at 455 N. Ottawa St., Joliet, IL 60432. The copyright in the software and documentation have been assigned to the United States of America as represented by the Administrator of the National Aeronautics and Space Administration.

The prospective partially exclusive license will comply with the terms and conditions of 35 U.S.C. 209 and 37 CFR 404.7, and the fields of use may be limited to: (1) for the purpose of assessing damage to vehicles; (2) for the purpose of determining liability arising from incidents involving two or more vehicles; and (3) for the purpose of modeling and designing custom parts for vehicles.

DATES: The prospective partially exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license. Objections submitted in response to this notice will not be made available to the public for inspection and, to the extent permitted by law, will not be released under the Freedom of Information Act, 5 U.S.C. 552.

ADDRESSES: Objections relating to the prospective license may be submitted to Patent Counsel, Office of the Chief Counsel, Mail Code CC-A, NASA John F. Kennedy Space Center, Kennedy Space Center, FL 32899. Telephone: 321-867-2076; Facsimile: 321-867-1817.

FOR FURTHER INFORMATION CONTACT: Shelley Ford, Patent Counsel, Office of the Chief Counsel, Mail Code CC-A, NASA John F. Kennedy Space Center, Kennedy Space Center, FL 32899. Telephone: 321-867-2076; Facsimile: 321-867-1817. Information about other NASA inventions available for licensing can be found online at http://technology.nasa.gov/.

Sumara M. Thompson-King,
Deputy General Counsel.

[FR Doc. 2014-02335 Filed 2-4-14; 8:45 am]

BILLING CODE 7510-13-P